DEPARTMENT OF AGRICULTURE

Forest Service

Malheur National Forest; Oregon; Malheur National Forest Site-Specific Invasive Plants Treatment Project

AGENCY: Forest Service, USDA.

ACTION: Correction—Notice of intent to prepare an environmental impact statement.

SUMMARY: On March 31, 2006 the Malheur National Forest published a Notice of Intent (NOI) to prepare an Environmental Impact Statement (EIS) for a similar project (Federal Register Vol. 72, No. 62, page 16281-1628). There has been a delay in filing the 2006 draft EIS and the invasive plant inventory and proposed action have been updated since then resulting in this correction. The following information is the updated Proposed Action. The Forest Service proposes to eradicate, control, or contain invasive plants within the Malheur National Forest. The Proposed Action is to treat invasive plants using integrated methods including chemical (herbicides and adjuvants), physical treatments (mechanical and manual treatment), and biological controls. These treatments will be used on existing infestations (approximately 2,287 acres) or new infestations, including new plant species that currently are not found on the Forest. Treatment could be anywhere on Forest Service system lands including rangelands, wilderness, timber harvest areas, along roads and road rights-of-way (including decommissioned roads), along trail routes, at dispersed and developed recreation sites, and on other disturbed sites (i.e. fires, flood events, and rock sources) where invasive plants are located. Mulching, seeding and planting of competitive, desirable vegetation may occur to restore treated sites.

DATES: Comments concerning the scope of the analysis must be received by May 5, 2011. The draft environmental impact statement is expected March 2012 and the final environmental impact statement is expected March 2013.

ADDRESSES: Send written comments to Teresa Raaf, Forest Supervisor, Malheur National Forest, P.O. Box 909, John Day, OR 97845. Comments may also be sent via facsimile to 541-575-3002. Electronic comments in acceptable plain text (.txt), rich text (.rtf), or Word (.doc) may be submitted to: comments-pacificnorthwest-malheur@fs.fed.us. Please put “Malheur NF Invasive Plants Treatment Project” occurs in the subject line.

FOR FURTHER INFORMATION CONTACT: Carole Holly, Project Leader, Phone 541-575-3026 or e-mail: cholly@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action (Updated)

Invasive plants displace or alter native plant communities and cause long-lasting economic and ecological problems within and outside the National Forest. They can increase fire hazards, degrade fish and wildlife habitat, out-compete native plants, impair water quality and watershed health, and adversely affect a wide variety of other resource values such as scenic beauty and recreational opportunities. Invasive plants can spread rapidly across the landscape to all land ownerships. Field inventories have identified about 30 different invasive plant species within the boundaries of the Forest. Species of greatest concern include Canada thistle, houndstongue, diffuse knapweed, Dalmatian toadflax, whitetop, and sulfur cinquefoil, among others. Our ability to prevent or minimize the adverse impacts of these and other invasive plants is greatest if populations can be treated while they are small and in the early stages of invasion. Additional benefits of early stage treatments include reduced treatment costs, less chemical use, and less ground and habitat disturbance. The purpose of treating invasive plant infestations is to maintain or improve the diversity, function, and sustainability of desired native plant communities and other natural resources that can be adversely impacted by invasive plant species. Without action, invasive plant populations will become increasingly difficult and costly to control and will further degrade forest and grassland ecosystems. Invasive plants will continue to expand and spread every year without effective treatment (the R6 2005 FEIS estimated a rate of 8-12 percent per year; this rate may be reduced due to adherence to prevention standards in the R6 2005 ROD).

The Malheur National Forest has been treating invasive plants without the authorization to rapidly respond to new infestations or the use of herbicides (an exception is that herbicides have been used in spot treatments totaling 10-20 acres/year along roads on the former Snow Mountain Ranger District—Ochoco National Forest). However, many invasive target species require herbicides for effective treatment. Monitoring has shown physical treatments alone cannot control invasive species. A previous attempt to authorize the use herbicides was made, but the project was litigated and enjoined. In December 2002, the U.S. District Court (Blue Mountain Biodiversity Project v. US Forest Service, CV 01-703-HA) concluded that the Malheur National Forest Environmental Assessment for invasive plant control was insufficient because it failed to address new information regarding herbicides and the causes of the spread of invasive plants.

The Pacific Northwest Region Invasive Plant Program Preventing and Managing Invasive Plants FEIS (referred to as the R6 2005 FEIS) (USDA Forest Service, 2005a) and Record of Decision for Invasive Plant Program Management (referred to as the R6 2005 ROD) (USDA Forest Service 2005b). Vectors and causes of invasive plant spread were explored in detail and new standards for prevention, site treatment and restoration, and an updated list of herbicides for effectively responding to invasive plant threats were added.

The prevention standards have been applied to land use decisions made since the R6 2005 ROD was adopted. However, the treatment and restoration part of the Malheur invasive plant control program is not consistent with the 2005 standards and needs to be updated. New and existing invasive plant populations on the Malheur National Forest require more timely, effective and cost-efficient treatment actions to comply with the intent of the R6 2005 ROD (which was incorporated into the Malheur Forest Plan).

In addition, after the R6 2005 ROD signed, a new herbicide (aminopyralid) became available. Aminopyralid (also known as Milestone TM) is specifically labeled for treatment of invasive plants in forested settings. This herbicide is effective on hard to control invasive plant species such as hawkweed, knapweed, and Canada thistle. It is preferred by invasive plant specialists at the state and county level.

Previous Public Outreach

The MNF scoped on this project previously (a (NOI) to prepare an EIS requesting public input was published in the Federal Register Volume 71, No. 62/March 31, 2006 on pages 16281-16282). Regional and local workload prevented us from being able to complete an EIS during the intervening years. The new Proposed Action is based on an updated inventory of invasive plants that was recently completed (February 2011).

Proposed Action

The Proposed Action is to treat invasive plants using integrated methods including chemical (herbicides and adjuvants), physical treatments (mechanical and manual treatment), and biological controls. Treatment could be anywhere on Forest Service system lands including rangelands, wilderness, timber harvest areas, along roads and road rights-of-way (including decommissioned roads), along trail routes, at dispersed and developed recreation sites, and on other disturbed sites (i.e. fires, flood events, and rock sources) where invasive plants are located. Mulching, seeding and planting of competitive, desirable vegetation may occur to restore treated sites. A map of invasive plant locations can be found on the Malheur National Forest Web site at http://www.fs.fed.us/r6/malheur/land&resourcesmanagement/projects/. Based on surveys, inventories and anecdotal reports accumulated over the last several years, target invasive species occupy approximately 2,287 acres on the Forest. The infestations are broadly distributed, often occurring in areas of high spread potential (e.g., along roads). There are likely additional invasive plant sites that have not yet been identified.

The Proposed Action would treat existing infestations according to Forest Plan standards. Specific project design features would be implemented to minimize unintended, adverse effects to non-target plants, animals, water, and people. New invasive plants detected on the Forest (beyond the current inventory) would also be treated using an “Early Detection and Rapid Response (EDRR)” process.

Ground based herbicide application methods would be used based on accessibility, topography, and the size of treatment areas. No aerial treatment is proposed. Spot and selective spraying where individual and groups of plants are targeted would be the primary method of application; however some herbicide broadcasting may occur from ATV or trucks. Broadcast treatments would occur when necessary based on the size, density or distribution of target species. ATVs may be used to facilitate broadcast in otherwise inaccessible areas. Ongoing monitoring of each site would dictate the treatment method, whether herbicides are needed, and the type of continued or follow-up treatments needed. Acreage treated would average up to 2,300 acres per year, with a total of 23,000 acres treated over the life of the project (about 10 years). Herbicide treatments would be done in accordance with label advisories, USDA Forest Service policies, and Forest Plan management direction. Specific design features would be applied to minimize or eliminate the potential for invasive plant treatments to adversely affect non-target plants, animals, human health, water quality, and aquatic organisms.

The R6 2005 ROD (now part of the Malheur Forest Plan) authorized the use of ten herbicide active ingredients. Each of the ten herbicides is known to be effective on the target species found on the Forest. A given herbicide may be effective on many target species but each site would usually be treated with only one of the ten approved herbicides (some tank mixes may be used); however, a different herbicide might be used in a follow-up treatment. The more herbicides choices in the toolbox, the better the effect expected over time (R6 2005 FEIS page 4-18, 4-26).

A site-specific, non-significant amendment to the Malheur Forest Plan is also proposed to add an 11th herbicide, aminopyralid, to the list of authorized herbicides for use on the Forest to treat invasive plants. Aminopyralid was not labeled for wildland use in 2005; however, the R6 2005 ROD Standard 16 acknowledges that new herbicides may be added given proper analysis. Aminopyralid has undergone extensive risk assessment since 2005. It is proposed for use because it would increase the effectiveness of treatment for some broadleaf target species, and reduce potential adverse impacts, compared to herbicides authorized in the R6 2005 ROD. Aminopyralid is likely to be effective on a large proportion of the current target species acreage.

Possible Alternatives

The Forest Service is considering an alternative of treating without the use of aminopyralid and only using the 10 herbicides approved in the R6 2005 ROD. The No Action alternative will also be considered, which would continue the current non-herbicide program on the Malheur National Forest.

Responsible Official

The Responsible Official is the Malheur National Forest Supervisor.

Nature of Decision To Be Made

The Forest Supervisor will make the following decisions based on the interdisciplinary analysis: (1) Whether or not to authorize site-specific invasive plant treatments using herbicides and other methods; (2) whether or not to implement an Early Detection and Rapid Response process for infestations that are detected over the next 5 to 15 years; (3) what mitigation measures (design features) are required and (4) what monitoring and adaptive management will occur.

Preliminary Issues

The following issues were identified in scoping that occurred in 2006:

Human Health: The health of forestry workers and the public may be at risk from exposure to herbicides. Chemical spray drift or contact by walking through recently sprayed areas may increase the risk, particularly to people who have heightened sensitivity to chemicals. In addition, health consequences could result from well water and other drinking water contaminated by herbicides.

Treatment Effectiveness: Existing invasive species populations may continue to expand and new populations could become established without using all methods aggressively.

Wildlife: Herbicides, particularly when applied through broadcast spraying, may harm terrestrial wildlife species.

Non-target Plants: Herbicides, particularly when applied through broadcast spraying, may harm non-target plants.

Soil Biology: Herbicide use may harm soil organisms or soil biology.

Fish and Water: Herbicide treatments on riparian areas have the potential to adversely affect water quality and aquatic ecosystems.

Permits or Licenses Required

Pesticide application licenses will be required for those implementing this project. Pesticide Use Proposals for wilderness herbicide applications need to be signed by the Regional Forester; otherwise Pesticide Use Proposals are signed by the Forest Supervisor. This project may involve riparian herbicide application subject to a Department of Environmental Quality water quality permit.

Scoping Process

This notice of intent initiates a new scoping process to guide the development of the environmental impact statement. Scoping comments from 2006 are part of the record and will be used to generate issues and alternatives for detailed study in the EIS. Scoping comments sent previously need not be re-sent; new comments are also welcome. No public meetings are planned.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, those who only submit anonymous comments will not have standing to appeal the subsequent decision under 36 CFR 215.

Dated: March 28, 2011.
Teresa Raaf,
Forest Supervisor.

[FR Doc. 2011-7727 Filed 4-4-11; 8:45 am]

BILLING CODE 3410-11-P